DEPARTMENT OF ENERGY

Federal Energy Regulatory Commission

[Docket Nos. CP05-130-000, CP05-132-000, and CP05-131-000]

Dominion Cove Point LNG, LP, Dominion Transmission, Inc.; Notice of Application

April 29, 2005.

Take notice that on April 15, 2005, Dominion Cove Point LNG, LP (Cove Point LNG) filed an application in Docket No. CP05-130-000, pursuant to section 3 of the Natural Gas Act (NGA), requesting authority to expand its facilities at its liquefied natural gas (LNG) import terminal at Cove Point, Maryland. Cove Point LNG also filed on April 15, 2005, an application in Docket No. CP05-132-000, pursuant to section 7(c) of the NGA, requesting a certificate of public convenience and necessity authorizing it to expand the capacity of its natural gas pipeline in Calvert, Prince George's and Charles County, Maryland. Dominion Transmission, Inc. also filed on April 15, 2005, an application in Docket No. CP05-131-000, pursuant to section 7(c) of the NGA, requesting a certificate of public convenience and necessity authorizing it to expand the capacity of its natural gas pipeline in Pennsylvania, New York, Virginia and West Virginia. Additional supplements to Cove Point LNG's and Dominion's applications were filed on April 22, 2005, and April 28, 2005; this information was required to complete the Commission's minimum filing requirements.

The details of these proposals are more fully set forth in the applications which are on file with the Commission and open to public inspection. The filings may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding these applications should be directed to Anne E. Bomar, Managing Director, Transmission, Rates and Regulation, Dominion Resources, Inc., 120 Tredegar Street, Richmond, Virginia 23219, or by phone at (804) 819-2134.

Cove Point LNG proposes to expand its existing LNG terminal by adding two new 160,000 cubic meter LNG storage tanks and additional vaporization capacity at its site in Calvert County, Maryland. The proposed terminal expansion would increase the send-out capability by 800,000 Dth/d and increase the storage capacity by 6.8 MMDth/d. Cove Point LNG is proposing to offer this increase in LNG terminal service on a proprietary basis under section 3 of the NGA and says that this would be a permissible application of the Commission's policy on LNG terminals as expressed in a prior case concerning Hackberry LNG Terminal, LLC. Cove Point LNG has proposed a new section 30 in the General Terms and Conditions of its existing FERC tariff for its current LNG terminal and transportation services to identify this proprietary service and explain the proprietary service's operation in relation to Cove Point LNG's existing services.

Cove Point LNG also proposes to construct and operate about 47 miles of 36-inch-diameter loop pipeline in Calvert, Prince George's, and Charles County, Maryland to allow it to deliver an additional 800,000 Dth/d from its LNG terminal to it connections with other interstate pipelines. Cove Point LNG is proposing to offer this additional service to Statoil Natural Gas, LLC at an incremental monthly reservation charge of $3.6824.

Dominion proposes to construct and operate about 81 miles of 24-inch-diameter pipeline lateral in central Pennsylvania and 33 miles of pipe in other parts of Pennsylvania and West Virginia. As part of the new central Pennsylvania system, Dominion proposes to construct two new compressor stations in Juniata and Centre Counties, Pennsylvania. Dominion says that these new facilities will allow it to transport an additional 700,000 Dth/d from its interconnection with Cove Point LNG to various delivery points on its system. Dominion also says that these new facilities will allow it to offer a new underground storage service of 6.0 MMDth, with an additional demand of 100,000 Dth/d. Dominion is proposing to offer these additional services to Statoil Natural Gas, LLC at incremental rates, and is also proposing a new incremental storage rate schedule—Rate Schedule GSS-E.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: May 27, 2005.

Linda Mitry,
Deputy Secretary.

[FR Doc. E5-2186 Filed 5-4-05; 8:45 am]

BILLING CODE 6717-01-P